DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Census Coverage Measurement, Independent Listing and Relisting Operations.

Form Number(s): DX-1302.

Agency Approval Number: None.

Type of Request: New collection.

Burden: 1,559 hours.

Number of Respondents: 40,000.

Average Hours Per Response: 2 minutes.

Needs and Uses: In preparation for the 2010 Census, the U.S. Census Bureau requests authorization from OMB to conduct the Census Coverage Measurement (CCM) Independent Listing Interview and the CCM Relisting Interview as part of the 2008 Dress Rehearsal. The CCM program for the dress rehearsal is designed to test that all planned coverage measurement operations are working as expected, that they are integrated internally, and that they are coordinated with the appropriate census operations.

The 2008 Census Dress Rehearsal will be conducted in two sites, one urban, and the other one, a mix of urban and suburban. San Joaquin County, California is the urban site. South Central North Carolina has been selected as the urban/suburban mix test site. This area consists of Fayetteville and nine counties surrounding Fayetteville (Chatham, Cumberland, Harnett, Hoke, Lee, Montgomery, Moore, Richmond, and Scotland).

The 2008 CCM test will be comprised of two samples selected to measure census coverage of housing units and the household population: The population sample (P sample) and the enumeration sample (E sample). The P sample is a sample of housing units and persons obtained independently from the census for a sample of block clusters. The E sample is a sample of census housing units and enumerations in the same block cluster as the P sample. The independent roster of housing units is obtained during the CCM Independent Listing, the results of which will be matched to census housing units in the sample block clusters, surrounding blocks, and across the entire site. Separate OMB packages will be submitted for subsequent CCM field operations.

The CCM operations planned for the dress rehearsal, to the extent possible, will mirror those that will be conducted for the 2010 Census to provide estimates of net coverage error and components of coverage error (omissions and erroneous enumerations) for housing units and persons in housing units (see Definition of Terms). The data collection and matching methodologies for previous coverage measurement programs were designed only to measure net coverage error, which reflects the difference between omissions and erroneous inclusions.

The Independent Listing Operation is the first step in the CCM process. It will be conducted to obtain a complete inventory of all housing unit addresses within the CCM sample block clusters before the 2008 Census Dress Rehearsal enumeration commences. In both dress rehearsal sites, Listers will canvass every street, road, or other place where people might live in their assigned block clusters and construct a list of housing units. Listers will contact a member of each housing unit (or proxy, as a last resort) to ensure all units at a given address are identified. They will also identify the location of each housing unit by assigning map spots on block cluster maps provided with their assignment materials. If an enumerator is uncertain whether particular living quarters is a housing unit, it will be listed and flagged for possible followup, if still unresolved after matching (this will be a part of the Initial Housing Unit Followup).

Completed Independent Listing Books are subject to Dependent Quality Control (DQC) wherein DQC listers return to the field to check 12 housing units per cluster to ensure that the work performed is of acceptable quality and to verify that the correct blocks were visited. If the cluster fails the DQC, then the DQC lister reworks the entire cluster. The completed listing books are keyed for matching against the census Decennial Master Address File for the same areas.

The Independent Listing results will be computer and clerically matched to the Decennial Master Address File from the census in the same areas. As the result of the matching, an additional relisting operation can occur for block clusters having high levels of geocoding errors in the original Independent Listing. The methods and procedures for Relisting will be the same as those for the Independent Listing operation. There will be one Independent Listing Form, DX-1302, that will be used for Independent Listing, DQC, and Relisting.

Definition of Terms

Components of Coverage Error—The two components of census coverage error are census omissions (missed persons or housing units) and erroneous inclusions (persons or housing units enumerated in the census that should not have been). Examples of erroneous inclusions are: housing units built after Census Day and persons or housing units enumerated more than once (duplicates).

Net Coverage Error—Reflects the difference between census omissions and erroneous inclusions. A positive net error indicates an undercount, while a negative net error indicates an overcount.

Affected Public: Individuals or households.

Frequency: One-time.

Respondent's Obligation: Mandatory.

Legal Authority: Title 13 U.S.C. 141 & 193.

OMB Desk Officer: Brian Harris-Kojetin, (202) 395-7314.

Copies of the above information collection proposal can be obtained by calling or writing Diana Hynek, Departmental Paperwork Clearance Officer, (202) 482-0266, Department of Commerce, room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: March 9, 2007.
Gwellnar Banks,
Management Analyst, Office of the Chief Information Officer.

[FR Doc. E7-4705 Filed 3-14-07; 8:45 am]

BILLING CODE 3510-07-P